DEPARTMENT OF HEALTH AND HUMAN SERVICES

Centers for Disease Control and Prevention

Disease, Disability, and Injury Prevention and Control Special Emphasis Panel (SEP): National Institute for Occupational Safety and Health (NIOSH): Occupational Safety and Health Training Project Grants, Program Announcement (PA) PAR06-484

In accordance with section 10(a)(2) of the Federal Advisory Committee Act (Pub. L. 92-463), the Centers for Disease Control and Prevention (CDC) announces the aforementioned meeting.

Time and Date: 8:30 a.m.-5:30 p.m., February 20, 2008 (Closed).

Place: Marriott Marina del Rey, 4100 Admiralty Way, Marian del Rey, CA 90292.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of “National Institute for Occupational Safety and Health (NIOSH): Occupational Safety and Health Training Project Grants, PA PAR06-484.”

Contact Person for More Information: Charles N. Rafferty, PhD, Assistant Director for Review and Policy, Office of Extramural Programs, Office of Extramural Coordination and Special Projects, NIOSH, CDC, 1600 Clifton Road, NE., Mailstop E74, Atlanta, GA 30333 Telephone: (404) 498-2530.

The Director, Management Analysis and Services Office, has been delegated the authority to sign Federal Register notices pertaining to announcements of meetings and other committee management activities, for both CDC and the Agency for Toxic Substances and Disease Registry.

Dated: December 21, 2007.
Elaine L. Baker,
Director, Management Analysis and Services Office, Centers for Disease Control and Prevention.

[FR Doc. E7-25544 Filed 12-31-07; 8:45 am]

BILLING CODE 4163-18-P